DEPARTMENT OF COMMERCE

International Trade Administration

Environmental Technologies Trade Advisory Committee (ETTAC), Request for Nominations

AGENCY: International Trade Administration, Trade Development, Commerce.

ACTION: Notice.

SUMMARY: The Environmental Technologies Trade Advisory Committee (ETTAC) was established pursuant to provisions under Title IV of the Jobs Through Trade Expansion Act, 22. U.S.C. 2151, and under the Federal Advisory Committee Act, 5 U.S.C. App. 2. ETTAC was first chartered on May 31, 1994. ETTAC serves as an advisory body to the Environmental Trade Working Group of the Trade Promotion Coordinating Committee (TPCC), reporting directly to the Secretary of Commerce in his capacity as Chairman of the TPCC. ETTAC advises on the development and administration of policies and programs to expand United States exports of environmental technologies, goods, and services and products that comply with United States environmental, safety, and related requirements.

Membership in a committee operating under the Federal Advisory Committee Act must be balanced in terms of economic subsector, geographic location, and company size. Committee members serve in a representative capacity, and must be able to generally represent the views and interests of a certain subsector of the U.S. environmental industry. We are seeking senior executive-level company or environmental technologies association candidates. Members of the ETTAC have experience in exporting the full range of environmental technologies products and services including:

(1) Air Pollution Control/Monitoring Equipment;

(2) Analytic Services;

(3) Environmental Energy Sources;

(4) Environmental Engineering and Consulting Services;

(5) Financial Services;

(6) Process and Prevention Technologies;

(7) Solid and Hazardous Waste Equipment and Management;

(8) Water and Wastewater Equipment and Services.

The Secretary of Commerce invites nominations to ETTAC of U.S. citizens who will represent U.S. environmental goods and services companies that trade internationally, or trade associations whose members include U.S. companies that trade internationally. Companies must be at least 51 percent beneficially-owned by U.S. persons. U.S.-based subsidiaries of foreign companies in general do not qualify for representation on the committee.

Nominees will be considered based upon their ability to carry out the goals of ETTAC's enabling legislation as further articulated in its charter. ETTAC's Charter is available on the internet at http://www.environment.ita.doc.gov. Priority will be given to a balanced representation in terms of point of view represented by various sectors, product lines, firm sizes, and geographic areas. Appointments are made without regard to political affiliation.

Nominees must be U.S. citizens, representing U.S. environmental goods and services firms that trade internationally or provide services in direct support of the international trading activities of other entities.

Self-nominations are accepted. If you are interested in nominating someone to become a member of ETTAC, please provide the following information (2 pages maximum):

(1) Name;

(2) Title;

(3) Work phone; fax; and, email address;

(4) Company or trade association name and address including Web site address;

(5) Short bio of nominee including credentials;

(6) Brief description of the company or trade association and its business activities; company size (number of employees and annual sales); and export markets served.

Please, do not send company or trade association brochures or any other information.

This information may be e-mailed to ellen.bohon@mail.doc.gov, or faxed to the attention of Ellen Bohon at 202-482-5665, and must be received before the deadline. Nominees selected to ETTAC will be notified.

Deadline: This request will be open until November 24, 2006, from the date of publication in the Federal Register.

FOR FURTHER INFORMATION CONTACT: Ellen Bohon, Office of Environmental Technologies Industries, Room 4053, U.S. Department of Commerce, 14th Street and Constitution Avenue, NW., Washington, DC 20230; phone 202-482-0359; fax 202-482-5665; e-mail Ellen.Bohon@mail.doc.gov.

Dated: November 9, 2006.
Joseph O. Neuhoff, III,
Director, Office of Energy and Environmental Industries.

[FR Doc. E6-19309 Filed 11-15-06; 8:45 am]

BILLING CODE 3510-DR-P